DEPARTMENT OF LABOR

Employment and Training Administration

[TA-W-85,286A]

United States Steel Corporation, Fairfield Works-Flat Roll Operations and Fairfield-Tubular Operations Including On-Site Leased Workers From Total Safety US, Fairfield, Alabama; Amended Certification Regarding Eligibility To Apply for Worker Adjustment Assistance

In accordance with Section 223 of the Trade Act of 1974, as amended (“Act”), 19 U.S.C. 2273, the Department of Labor issued a Certification of Eligibility to Apply for Worker Adjustment Assistance on July 2, 2014, applicable to workers and former workers of United States Steel Corporation, Lorain Tubular Operations, Lorain, Ohio. On May 22, 2015, the Department issued an Amended Certification of Eligibility to Apply for Worker Adjustment Assistance applicable to workers and former workers of United States Steel Corporation, Fairfield Works-Flat Roll and Fairfield-Tubular Operations, Fairfield, Alabama (TA-W-85,286A). The workers are engaged in activities related to the production of steel tubular products such as pipes and include those who are engaged in activities related to production, such as maintenance, administrative support, safety, and security.

Subsequent to the issuance of the amended certification, the Department received information that workers of Total Safety US worked on-site at the Fairfield, Alabama facility.

Based on these findings, the Department is amending this certification to clarify that the worker group at United States Steel Corporation, Fairfield Works-Flat Roll and Fairfield-Tubular Operations, Fairfield, Alabama (TA-W-85,286A) includes on-site workers from Total Safety US. The amended notice applicable to TA-W-85,286A is hereby issued as follows:

All workers of United States Steel Corporation, Fairfield Works-Flat Roll Operations and Fairfield-Tubular Operations, including on-site workers leased workers from Total Safety US, Fairfield, Alabama (TA-W-85,286A), who became totally or partially separated from employment on or after May 2, 2013 through July 2, 2016 are eligible to apply for adjustment assistance under Chapter 2 of Title II of the Trade Act of 1974, as amended, and are also eligible to apply for alternative trade adjustment assistance under Section 246 of the Trade Act of 1974, as amended.

Signed in Washington, DC, this 30th day of March, 2016.
Jessica R. Webster,
Certifying Officer, Office of Trade Adjustment Assistance.

[FR Doc. 2016-12089 Filed 5-23-16; 8:45 am]

BILLING CODE 4510-FN-P